DEPARTMENT OF ENERGY

Federal Energy Regulatory Commission

Combined Notice of Filings

November 3, 2008.

Take notice that the Commission has received the following Natural Gas Pipeline Rate and Refund Report filings:

Docket Numbers: RP88-67-084.

Applicants: Texas Eastern Transmission LP.

Description: Texas Eastern Transmission, LP submits Twenty-Eighth Revised Sheet No. 25 et al. to FERC Gas Tariff, Seventh Revised Volume No. 1 et al., to be effective 12/1/08.

Filed Date: 10/30/2008.

Accession Number: 20081031-0180.

Comment Date: 5 p.m. Eastern Time on Wednesday, November 12, 2008.

Docket Numbers: RP97-81-050.

Applicants: Kinder Morgan Interstate Gas Transmission LLC.

Description: Kinder Morgan Interstate Gas Transmission LLC submits First Revised Sheet 8 to FERC Gas Tariff, Fourth Revised Volume 1-A, to be effective 11/1/08.

Filed Date: 10/30/2008.

Accession Number: 20081031-0179.

Comment Date: 5 p.m. Eastern Time on Wednesday, November 12, 2008.

Docket Numbers: RP99-176-171.

Applicants: Natural Gas Pipeline Company of America.

Description: Natural Gas Pipeline Company of America LLC submits two amendments to an existing negotiated rate transportation rate schedule FTS agreement between Natural and Tenaska Marketing Ventures to be effective 11/1/08.

Filed Date: 10/30/2008.

Accession Number: 20081031-0153.

Comment Date: 5 p.m. Eastern Time on Wednesday, November 12, 2008.

Docket Numbers: RP99-176-172.

Applicants: Natural Gas Pipeline Company of America LLC.

Description: Natural Gas Pipeline Company of America LLC submits First Revised Sheet 33D et al. to FERC Gas Tariff Seventh Revised Volume 1, to be effective 12/1/08.

Filed Date: 10/30/2008.

Accession Number: 20081031-0156.

Comment Date: 5 p.m. Eastern Time on Wednesday, November 12, 2008.

Docket Numbers: RP99-176-173.

Applicants: Natural Gas Pipeline Company of America LLC.

Description: Natural Gas Pipeline Company of America LLC submits original sheet 33L.02 to FERC gas tariff seventh revised volume 1, to be effective 12/1/08.

Filed Date: 10/30/2008.

Accession Number: 20081031-0155.

Comment Date: 5 p.m. Eastern Time on Wednesday, November 12, 2008.

Docket Numbers: RP99-176-174.

Applicants: Natural Gas Pipeline Company of America LLC.

Description: Natural Gas Pipeline Company of America LLC submits Original Sheet 33L.01 to FERC Gas Tariff, Seventh Revised Volume 1, to be effective 12/1/08.

Filed Date: 10/30/2008.

Accession Number: 20081031-0154.

Comment Date: 5 p.m. Eastern Time on Wednesday, November 12, 2008.

Docket Numbers: RP06-595-011.

Applicants: Discovery Gas Transmission LLC.

Description: Discovery Gas Transmission LLC submits Eleventh Revised Sheet 22 et al. to FERC Gas Tariff, Original Volume 1, to be effective 11/1/08.

Filed Date: 10/30/2008.

Accession Number: 20081031-0152.

Comment Date: 5 p.m. Eastern Time on Wednesday, November 12, 2008.

Docket Numbers: RP09-36-000.

Applicants: Williston Basin Interstate Pipeline Co.

Description: Williston Basin Interstate Pipeline Co submits Ninth Revised Sheet No. 32 et. al. to FERC Gas Tariff, Second Revised Volume 1, to be effective 12/1/08.

Filed Date: 10/29/2008.

Accession Number: 20081030-0081.

Comment Date: 5 p.m. Eastern Time on Monday, November 10, 2008.

Docket Numbers: RP09-37-000.

Applicants: Transcontinental Gas Pipe Line Corp.

Description: Transcontinental Gas Pipe Line Corp submits Fifth Revised Sheet No. 166 et al to FERC Gas Tariff, Third Revised Volume No. 1 et al, to be effective 11/28/08.

Filed Date: 10/29/2008.

Accession Number: 20081031-0176.

Comment Date: 5 p.m. Eastern Time on Monday, November 10, 2008.

Docket Numbers: RP09-38-000.

Applicants: Sabine Pipe Line LLC.

Description: Sabine Pipe Line LLC submits Second Revised Sheet 317 et al. to FERC Gas Tariff, Original Volume No. 1, to be effective 11/30/08.

Filed Date: 10/30/2008.

Accession Number: 20081031-0178.

Comment Date: 5 p.m. Eastern Time on Wednesday, November 12, 2008.

Docket Numbers: RP09-39-000.

Applicants: Kinder Morgan Interstate Gas Transmission LLC.

Description: Kinder Morgan Interstate Gas Transmission LLC submits First Revised Sheet 8 to FERC Gas Tariff, Fourth Revised Volume 1-A, to be effective 11/1/08.

Filed Date: 10/30/2008.

Accession Number: 20081031-0179.

Comment Date: 5 p.m. Eastern Time on Wednesday, November 12, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-26575 Filed 11-6-08; 8:45 am]

BILLING CODE 6717-01-P